DEPARTMENT OF ENERGY

Federal Energy Regulatory Commission

[Docket No. EL18-54-000]

New Jersey Board of Public Utilities v. PJM Interconnection, L.L.C., New York Independent System Operator, Inc., Consolidated Edison Company, New York, Inc., Linden VFT, LLC, Hudson Transmission Partners, LLC, New York Power Authority; Notice of Complaint

Take notice that on December 22, 2017, pursuant to sections 206 and 309 of the Federal Power Act, 16 U.S.C. 824e, 824v and 825e, and Rule 206 of the Federal Energy Regulatory Commission's (Commission) Rules of Practice and Procedure, 18 CFR 385.206, New Jersey Board of Public Utilities (Complainant) filed a formal complaint against PJM Interconnection, L.L.C. (PJM), New York Independent System Operator, Inc. (NYISO), Consolidated Edison Company of New York Inc., Linden VFT, LLC, Hudson Transmission Partners, LLC and New York Power Authority (collectively, Respondents), alleging that New Jersey ratepayers have been, and will continue to be detrimentally affected by current and projected changes to PJM Tariff cost allocations connected to the Bargain-Linden Corridor (BLC), various actions by several merchant transmission facilities regarding the conversion of their Firm Transmissions Withdrawal Rights (FTWRs) to non-FTWRs with the expectation of no cost allocation for BLC Regional transmission Expansion Plan costs, and other actions connected to joint NYISO and PJM agreements that result in unjust and unreasonable rates and charges to New Jersey ratepayers, all as more fully explained in the complaint.

Complainant certifies that copies of the complaint were served on the contacts for the Respondents as listed on the Commission's list of Corporate Officials, or otherwise obtained.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on January 11, 2018.

Dated: December 26, 2017.
Nathaniel J. Davis, Sr.,
Deputy Secretary.

[FR Doc. 2017-28274 Filed 12-29-17; 8:45 am]

BILLING CODE 6717-01-P